DEPARTMENT OF AGRICULTURE

Office of Advocacy and Outreach

[Docket No. OSEC-15AO00EX001]

“USDA's Receipt for Service or Denial of Service Initiative”

AGENCY: Office of Advocacy and Outreach, USDA.

ACTION: Notice of public listening session.

SUMMARY: The Office of Advocacy and Outreach (OAO) will hold a public meeting entitled “USDA's Receipt for Service Initiative” on June 3, 2015. The purpose of this event is to promote public feedback on the implementation of the Receipt for Service or Denial of Service provisions of the 2008 Farm Bill (section 14003 of the Food, Conservation and Energy Act of 2008 (7 U.S.C. 2279-1(e)) and as amended in section 12204 of the Agricultural Act of 2014).

FOR FURTHER INFORMATION CONTACT: Mrs. Kenya Nicholas, USDA Outreach Coordinator, USDA Office of Advocacy and Outreach, 1400 Independence Avenue SW., Room 520-A, Washington, DC 20250-0170; (202) 720-6350; Email: kenya.nicholas@osec.usda.gov.

SUPPLEMENTARY INFORMATION: This session encourages dialogue from the public on implementing the mandatory provision for USDA officials in USDA's Service Centers nationwide to issue Receipts for Service or Denial of Service.

DATES: The meeting will be held on June 3, 2015. Registration will start at 10 a.m. and the program will begin at 10:30 a.m. EST and conclude by noon.

ADDRESSES: U.S. Department of Agriculture, Jamie L. Whitten Building, Room 108-A, 1400 Independence Avenue SW., Washington, DC. Participants should enter the building through the Independence Avenue or Jefferson Drive entrance of the Jamie Whitten Building located between 12th and 14th Street. Valid photo identification is required for clearance by building security personnel.

Instructions for Participation: Although registration is encouraged, walk-ins will be accommodated to the extent that space permits. Registered participants will be given priority for making presentations prior to walk-ins. Anyone interested in the USDA Receipt for Service or Denial of Service Initiative is encouraged to attend the public meeting. Presentations will be limited to 10 minutes in duration. Participation via telephone is also available by calling 1 (888) 829-8676 and passcode 9157001. To register and request time for an oral statement or submit written comments, please contact Kenya Nicholas, USDA Outreach Coordinator; Email: OASDVFR2015@osec.usda.gov; Telephone: (202) 720-6350.

Done in Washington, DC, this 5th day of May 2015.
Carolyn C. Parker,
Director, Office of Advocacy and Outreach.

[FR Doc. 2015-11339 Filed 5-8-15; 8:45 am]

BILLING CODE P